DEPARTMENT OF COMMERCE

Foreign-Trade Zones Board

[Order No. 1241]

Approval for Expansion of Subzone 124h, Bollinger Shipyards Lockport, LLC (Shipbuilding), Lafourche, Jefferson and Orleans Parishes, LA

Pursuant to its authority under the Foreign-Trade Zones Act of June 18, 1934, as amended (19 U.S.C. 81a-81u), the Foreign-Trade Zones Board (the Board) adopts the following Order:

Whereas, the Port of South Louisiana, grantee of FTZ 124, has requested authority on behalf of Bollinger Shipyards Lockport, LLC (Bollinger), to expand Subzone 124H to include six additional sites in Lafourche, Jefferson and Orleans Parishes, Louisiana (FTZ Docket 3-2002, filed 1/8/2002);

Whereas, notice inviting public comment has been given in the Federal Register (67 FR 1960, 1/15/02);

Whereas, the Board adopts the findings and recommendations of the examiner's report, and finds that the requirements of the FTZ Act and Board's regulations would be satisfied, and that approval of the application would be in the public interest if approval is subject to the conditions listed below;

Now, therefore, the Board hereby orders:

The application to expand Subzone 124H on behalf of Bollinger, is approved, subject to the FTZ Act and the Board's regulations, including § 400.28, and subject to the following conditions:

1. Any foreign steel mill products admitted to the subzone, including plate, angles, shapes, channels, rolled steel stock, bars, pipes and tubes, not incorporated into merchandise otherwise classified, and which is used in manufacturing, shall be subject to Customs duties in accordance with applicable law, unless the Executive Secretary determines that the same item is not then being produced by a domestic steel mill; and

2. In addition to the annual report, Bollinger Shipyards Lockport, LLC, shall advise the Board's Executive Secretary (§ 400.28(a)(3)) as to significant new contracts with appropriate information concerning foreign purchases otherwise dutiable, so that the Board may consider whether any foreign dutiable items are being imported for manufacturing in the subzone primarily because of subzone status and whether the Board should consider requiring Customs duties to be paid on such items.

Signed at Washington, DC, this 29th day of July 2002.
Faryar Shirzad,
Assistant Secretary for Import Administration, Alternate Chairman, Foreign-Trade Zones Board.

[FR Doc. 02-20075 Filed 8-7-02; 8:45 am]

BILLING CODE 3510-DS-P